DEPARTMENT OF HOMELAND SECURITY

Coast Guard

33 CFR Part 165

[Docket No. USCG-2007-29153]

RIN 1625-AA87

Security Zone; Hawaii Superferry Arrival/Departure, Nawiliwili Harbor, Kauai, HI

AGENCY: Coast Guard, DHS.

ACTION: Temporary final rule; additional correction.

SUMMARY: This document corrects a typographical error in a U.S. Code section number and corrects a reference to an access road on the jetty south of Nawiliwili Park in a temporary final rule entitled “Security Zone; Hawaii Super Ferry Arrival/Departure, Nawiliwili Harbor, Kauai, Hawaii” that was published September 5, 2007, in the Federal Register.

DATES: These corrections are effective September 24, 2007.

FOR FURTHER INFORMATION CONTACT: Lieutenant (Junior Grade) Jasmin Parker, U.S. Coast Guard Sector Honolulu at 808-842-2673.

SUPPLEMENTARY INFORMATION: On September 5, 2007, the Coast Guard published a temporary final rule entitled “Security Zone; Hawaii Super Ferry Arrival/Departure, Nawiliwili Harbor, Kauai, Hawaii” in the Federal Register (72 FR 50877). In that document references were made to Waapa Road being included in the security zone covering land on the jetty south of Nawiliwili Park. The road in the zone is not named “Waapa Road”; instead, that jetty access road is commonly known as “Jetty Road.” Also, when citing to the authority for making the rule effective less than 30 days after publication, instead of citing to 5 U.S.C. 553(d)(3), because of a typographic error, that section was cited as “533.” This document corrects those errors. A previous correction document for this rule was published September 13, 2007 (72 FR 52282).

Correction Instructions

In rule FR Doc. 07-4357 published on September 5, 2007 (72 FR 50877), make the following corrections:

1. On page 50877, in the first column, in line 17, remove the words “Waapa Road” and add, in their place, the words “the jetty access road (commonly known as Jetty Road)”.

2. On page 50877, in the second column, in line 21, remove “533” and add, in its place, “553”.

§ 165.T14-160 [Corrected]

3. On page 50879, in the first line of the second column, in § 165.T14-160(a), remove the words “Waapa Road” and add, in their place, the words “the jetty access road (commonly known as Jetty Road)”.

Dated: September 19, 2007.
Stefan G. Venckus,
Chief, Office of Regulations and Administrative Law, United States Coast Guard.

[FR Doc. E7-18783 Filed 9-21-07; 8:45 am]

BILLING CODE 4910-15-P